DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to “kenneth_graham@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written data or comments on these applications must be received, at the address given below, by July 3, 2000.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Ken Graham, Permits Biologist). Telephone: 404/679-7358; Facsimile: 404/679-7081.

FOR FURTHER INFORMATION CONTACT: Ken Graham, Telephone: 404/679-7358; Facsimile: 404/679-7081.

SUPPLEMENTARY INFORMATION:

Applicant: Christopher A. Taylor, Illinois Natural History Survey, Champaign, Illinois, TE027337-0

The applicant requests a permit to capture the Nashville crayfish, Orconectes shoupi, and to collect one specimen for genetic/systematics research on the species, in order to clarify species classification and for enhancement of management and survival of the species.

Applicant: Dr. Paul Yokely, Jr., Florence, Alabama, TE027307-0

The applicant requests authorization to take (capture, identify, release, collect dead freshwater snail and mussel shells, and to relocate captured specimens upstream away from potential harm due to construction activities) federally-listed fish, snails, and mussels during the course of aquatic surveys throughout Alabama, Georgia, Mississippi, and Tennessee. Any taking would occur during routine biological surveys and monitoring, for the purpose of enhancement of survival of the species.

Applicant: Michael R. Hurst, Chattahoochee-Oconee National Forest, Gainesville, Georgia, TE027344-0

The applicant requests authorization to take (capture, band, and harass during nest monitoring, construction of artificial cavities, and placement of restrictor plates) the endangered red-cockaded woodpecker, Picoides borealis, on and adjacent to the Oconee National Forest in Georgia, for the purpose of enhancement of survival of the species.

Applicant: Stuart W. McGregor, Geological Survey of Alabama, Tuscaloosa, Alabama, TE027346-0

The applicant requests authorization to take (survey for, capture, handle, identify, and release) 44 species of federally-listed freshwater mussels that could be potentially encountered during routine biological surveys throughout Alabama and in the upper Tombigbee River system in Mississippi, for the purpose of conducting status surveys and enhancement of survival of the species.

Applicant: Steven D. Maloney, Griggs & Maloney Incorporated, Murfreesboro, Tennessee, TE027376-0

The applicant requests authorization to take (capture, identify, and relocate) the endangered Nashville Crayfish, Orconectes shoupi, throughout the species range in Tennessee, for the purpose of enhancement of survival of the species.

Dated: May 25, 2000.
H. Dale Hall,
Acting Regional Director.

[FR Doc. 00-13656 Filed 5-31-00; 8:45 am]

BILLING CODE 4310-55-P